DEPARTMENT OF ENERGY

Federal Energy Regulatory Commission

Combined Notice of Filings #1

Take notice that the Commission received the following electric corporate filings:

Docket Numbers: EC09-104-002.

Applicants: Lord, Abbett & Co. LLC.

Description: Request for Reauthorization and Extension of Blanket Authorization to Acquire and Dispose of Securities Under Section 203 of the Federal Power Act and Request for Shortened Comment Period.

Filed Date: 11/4/15.

Accession Number: 20151104-5254.

Comments Due: 5 p.m. ET 11/25/15.

Docket Numbers: EC16-27-000.

Applicants: Carousel Wind Farm, LLC.

Description: Amendment to November 3, 2015 Application for Authorization Under Section 203 of the Federal Power Act and Request for Expedited Action of Carousel Wind Farm, LLC.

Filed Date: 11/4/15.

Accession Number: 20151104-5257.

Comments Due: 5 p.m. ET 11/24/15.

Take notice that the Commission received the following electric rate filings:

Docket Numbers: ER10-2579-003.

Applicants: NorthPoint Energy Solutions Inc.

Description: Notification of Non-Material Change in Status of NorthPoint Energy Solutions, Inc.

Filed Date: 11/4/15.

Accession Number: 20151104-5225.

Comments Due: 5 p.m. ET 11/25/15.

Docket Numbers: ER10-2615-006; ER11-2335-007

Applicants: Plum Point Energy Associates, LLC, Plum Point Services Company, LLC.

Description: Supplement to June 29, 2015 Triennial MBR Filing of Plum Point Energy Associates, LLC and Plum Point Services Company, LLC.

Filed Date: 10/23/15.

Accession Number: 20151023-5196.

Comments Due: 5 p.m. ET 11/16/15.

Docket Numbers: ER16-263-000.

Applicants: Southern California Edison Company.

Description: § 205(d) Rate Filing: GIA and Distribution Service Agmt Yavi Energy LLC Eastwind Project to be effective 11/1/2015.

Filed Date: 11/5/15.

Accession Number: 20151105-5000.

Comments Due: 5 p.m. ET 11/27/15.

Docket Numbers: ER16-264-000.

Applicants: PJM Interconnection, L.L.C.

Description: Tariff Cancellation: Notice of Cancellation of WMPA SA No. 3480, Queue No. W1-107 to be effective 10/6/2015.

Filed Date: 11/5/15.

Accession Number: 20151105-5050.

Comments Due: 5 p.m. ET 11/27/15.

Docket Numbers: ER16-265-000.

Applicants: Exelon Generation Company, LLC.

Description: Tariff Cancellation: Notice of Cancellation of Rate Schedule to be effective 11/6/2015.

Filed Date: 11/5/15.

Accession Number: 20151105-5051.

Comments Due: 5 p.m. ET 11/27/15.

Docket Numbers: ER16-266-000.

Applicants: PJM Interconnection, L.L.C.

Description: Tariff Cancellation: Notice of Cancellation of WMPA SA No. 3186, Queue No. W4-072 to be effective 12/28/2015.

Filed Date: 11/5/15.

Accession Number: 20151105-5052.

Comments Due: 5 p.m. ET 11/27/15.

Docket Numbers: ER16-267-000.

Applicants: Duke Energy Carolinas, LLC.

Description: § 205(d) Rate Filing: Haywood Amendment to PPA RS No. 335 to be effective 1/1/2016.

Filed Date: 11/5/15.

Accession Number: 20151105-5113.

Comments Due: 5 p.m. ET 11/27/15.

Docket Numbers: ER16-268-000.

Applicants: Duke Energy Progress, LLC.

Description: § 205(d) Rate Filing: Haywood 2nd Amended RS No. 180 to be effective 1/1/2016.

Filed Date: 11/5/15.

Accession Number: 20151105-5114.

Comments Due: 5 p.m. ET 11/27/15.

Docket Numbers: ER16-269-000.

Applicants: San Diego Gas & Electric Company.

Description: § 205(d) Rate Filing: Vista Energy Storage EP, Service Agreement No. 53, Volume 11 to be effective 11/6/2015.

Filed Date: 11/5/15.

Accession Number: 20151105-5147.

Comments Due: 5 p.m. ET 11/27/15.

Docket Numbers: ER16-270-000.

Applicants: Midcontinent Independent System Operator.

Description: § 205(d) Rate Filing: 2015-11-05_SA 2863 ATC Construction Management Agreement to be effective 10/30/2015.

Filed Date: 11/5/15.

Accession Number: 20151105-5192.

Comments Due: 5 p.m. ET 11/27/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 5, 2015.
Nathaniel J. Davis, Sr.,
Deputy Secretary.

[FR Doc. 2015-28769 Filed 11-12-15; 8:45 am]

BILLING CODE 6717-01-P